FEDERAL COMMUNICATIONS COMMISSION

[OMB 3060-1272; FR ID 209315]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before April 19, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1272.

Title: 3.7 GHz Band Space Station Operator Accelerated Relocation Elections and Transition Plans; 3.7 GHz Band Earth Station Lump Sum Payment Elections.

Type of Review: Extension of a currently approved collection.

Respondents: Business or other for-profit entities.

Estimated Number of Respondents and Responses: 3,010 respondents and 3,010 responses.

Estimated Time per Response: 16 hours per response for accelerated relocation elections, 2,720 hours per response for transition plans, and 32 hours per response for lump sum payment elections.

Frequency of Response: One time reporting requirement.

Obligation to Respond: Statutory authority for this information collection is contained in sections 1, 2, 4(i), 4(j), 5(c), 201, 302, 303, 304, 307(e), and 309 of the Communications Act of 1934, as amended, 47 U.S.C. 151, 152, 154(i), 154(j), 155(c), 201, 302, 303, 304, 307(e), 309.

Total Annual Burden: 109,680 hours.

Total Annual Cost: $900,000.

Needs and Uses: Under this information collection, the Commission will collect information that will be used to determine when, how, and at what cost existing operations in the lower portion of the 3.7-4.2 GHz band will be relocated to the upper portion of the band. This collection will serve as the starting point for planning and managing the process of efficiently and expeditiously clearing of the lower portion of the band, so that this spectrum can be auctioned for flexible-use service licenses.

The transition relocation process began in 2020. Initial Transition Plans were filed on June 19, 2020 with final Transition Plans due August 14, 2020. Throughout the relocation process, the Wireless Telecommunications Bureau (Bureau) opened limited windows to amend their Transition Plans on several occasions. In addition to submitting and modifying Transition Plans during these periods, eligible space station operators were required to file quarterly status reports with the Commission beginning on December 31, 2020 to demonstrate their efforts to ensure a timely transition.

The 3.7 GHz band auction, Auction 107, took place from December 8, 2020 to February 17, 2021, and, on February 24, 2021, the Commission announced the winning bidders of the C-band auction for all 5,684 licenses. In the same year, the Bureau directed eligible space station operators to submit updates for their final Transition Plans during limited windows opened for operators to provide these updates.

Later that year, on August 4, 2021, the Bureau issued a Public Notice implementing filing procedures for Phase I Certifications. Originally, Phase I's deadline was set for December 5, 2021, but the deadline was met eleven days earlier than anticipated. On November 24, 2021, the Commission validated the certification of Phase I.

The C-band transition continued into 2023. On May 15, 2023, the Bureau announced procedures for filing C-band Phase II Certifications of Accelerated Relocation and implementation of the Commission's incremental reduction plan for Phase II Accelerated Relocation Payments as part of the ongoing transition. The C-Band Relocation Payment Clearinghouse (RPC) is responsible for disbursing the Accelerated Relocation Payments within a certain time period.

On June 1, 2023, all eligible space station operators were permitted to submit their Phase II certifications. Also on June 1, 2023, the Bureau opened a limited, final window for eligible space station operators to file modified Transition Plans to accurately account for any updates since September 30, 2021.

Phase II's deadline to complete the transition of space station operations to the upper 200 megahertz of the band was originally set for December 5, 2023. Instead, on August 10, 2023, the last of the Phase II Certifications was deemed granted. Even though Phases I and II of the satellite transition are complete, the Commission continues to work through the C-band relocation process. On October 13, 2023, the Bureau released a Public Notice seeking comment on proposed deadlines for claimants to submit reimbursement claims. The Public Notice stated that the RPC's operations are currently scheduled to conclude on June 30, 2025, which is still more than a year and a half away. The relocation of the fixed service licensees is also ongoing.

On December 5, 2023, the Commission issued a Public Notice adopting two final reimbursement claims submission deadlines for eligible incumbents and other eligible stakeholders to submit any outstanding transition-related claims to the RPC for processing as part of this ongoing transition. The two deadlines are: (1) February 5, 2024 as the submission deadline to the RPC for all reimbursement claims for costs incurred and paid by claimants as of December 31, 2023, and (2) July 1, 2024 as the submission deadline to the RPC for all reimbursement claims for costs incurred and paid by claimants after December 31, 2023. In the Public Notice, the Commission stated that these adopted dates are important because they will aid in facilitating a timely conclusion of the C-band reimbursement program. Furthermore, the Commission highlighted the fact that all lump sum electees and many other eligible claimants and eligible stakeholders have had ample time within which to submit their claims to the RPC.

It is important to continue to collect information because it is crucial to ensure that managing this process is efficiently and quickly done, and that transition is still underway. Because this process remains ongoing, this information collection should be renewed to ensure that a complete set of information is maintained. If this collection were to expire now, stakeholders would be missing ongoing information about the transition process. Renewing this collection will provide stakeholders with complete information instead of an information collection that ends before the entire transition process is officially accomplished in 2025.

Federal Communications Commission.
Marlene Dortch,
Secretary, Office of the Secretary.

[FR Doc. 2024-05846 Filed 3-19-24; 8:45 am]

BILLING CODE 6712-01-P